DEPARTMENT OF TRANSPORTATION

Surface Transportation Board

[STB Finance Docket No. 34806]

Susquehanna Valley Railroad Corporation—Acquisition of Control Exemption—Juniata Valley Railroad Company, Lycoming Valley Railroad Company, Nittany & Bald Eagle Railroad Company, North Shore Railroad Company, Wellsboro & Corning Railroad Company, Union County Industrial Railroad Company, and Shamokin Valley Railroad Company

Susquehanna Valley Railroad Corporation (SVRC), a new noncarrier holding company, has filed a verified notice of exemption to acquire control of seven Class III railroads: Juniata Valley Railroad Company, Lycoming Valley Railroad Company, Nittany & Bald Eagle Railroad Company, North Shore Railroad Company, Wellsboro & Corning Railroad Company, Union County Industrial Railroad Company, and Shamokin Valley Railroad Company. Mr. Richard D. Robey, a noncarrier individual, is the sole shareholder and current owner of each of these Class III railroads. In a related transaction, STB Finance Docket No. 34807, Mr. Robey has obtained an exemption to continue in control of SVRC and Stourbridge Railroad Company, a Class III railroad.

The transaction was scheduled to be consummated on or after January 6, 2006, the effective date of the exemption (7 days after the exemption was filed).¹

¹ The notice erroneously indicated a consummation date of January 1, 2006. That date has been corrected here.

SVRC states that this is a corporate family transaction that will not result in adverse changes in service levels, significant operational changes, or a change in the competitive balance with carriers outside the corporate family. Therefore, the transaction is exempt from the prior approval requirements of 49 U.S.C. 11323. See 49 CFR 1180.2(d)(3).

As a result of this transaction, SVRC will own and control the seven Class III railroads owned by Mr. Robey and Mr. Robey will be the sole shareholder and owner of SVRC. The purpose of the transaction is to create a noncarrier holding company that can provide consolidated administration and management of the seven shortline railroad companies to be acquired by SVRC from Mr. Robey.

Under 49 U.S.C. 10502(g), the Board may not use its exemption authority to relieve a rail carrier of its statutory obligation to protect the interests of its employees. Section 11326(c), however, does not provide for labor protection for transactions under section 11324 and 11325 that involve only Class III rail carriers. Accordingly, the Board may not impose labor protective conditions here, because all of the carriers involved are Class III carriers.

If the notice contains false or misleading information, the exemption is void ab initio. Petitions to revoke the exemption under 49 U.S.C. 10502(d) may be filed at any time. The filing of a petition to revoke will not automatically stay the transaction.

An original and 10 copies of all pleadings, referring to STB Finance Docket No. 34806, must be filed with the Surface Transportation Board, 1925 K Street, NW., Washington, DC 20423-0001. In addition, a copy of each pleading must be served on: Richard R. Wilson, Esq., 127 Lexington Ave, Ste. 100, Altoona, PA 16601.

Board decisions and notices are available on our Web site at http://www.stb.dot.gov.

Decided: January 20, 2006.
By the Board, David M. Konschnik, Director, Office of Proceedings.
Vernon A. Williams,
Secretary.

[FR Doc. 06-733 Filed 1-26-06; 8:45 am]

BILLING CODE 4915-01-P